DEPARTMENT OF ENERGY

Western Area Power Administration

Big Stone II Power Plant and Transmission Project Final Environmental Impact Statement (DOE/EIS-0377)

AGENCY: Western Area Power Administration, DOE.

ACTION: Notice of Availability.

SUMMARY: The Western Area Power Administration (Western) announces the availability of the Big Stone II Power Plant and Transmission Project (Project) Final Environmental Impact Statement (EIS). This Final EIS analyzes the environmental impacts of constructing and operating the proposed Project. Western is considering whether to grant a request to interconnect the proposed Project with Western's transmission system at Morris and Granite Falls substations in Minnesota, an action which requires Western to complete modifications to these substations to support the interconnection.¹ The U.S. Army Corps of Engineers (USACE) participated as a cooperating agency in the EIS process. USACE is considering whether to issue a permit for Section 10 of the Rivers and Harbors Act and for Section 404 of the Clean Water Act for construction of the proposed Project within or across navigable waters and waters of the United States.

¹ As noted in Western's Notice of Intent to prepare a Big Stone II EIS, Western became the lead agency for preparation of the EIS because the construction of Big Stone II would incorporate a major new generation resource into Western's power transmission system, 70 FR 30716 (May 27, 2005).

DATES: Western and USACE will wait at least thirty days from the U.S. Environmental Protection Agency's Notice of Availability for the Final EIS published in the Federal Register before issuing decisions on the interconnection request and permits, respectively. Western's decision on whether or not to grant the interconnection request will be published in the Federal Register, once issued.

FOR FURTHER INFORMATION CONTACT: For further information or to request a copy of the Final EIS or the Executive Summary, please write Mr. Matt Blevins, NEPA Document Manager, Big Stone II EIS, Western Area Power Administration, P.O. Box 281213, Lakewood, CO 80228; e-mail BigStoneEIS@wapa.gov, or Phone: (800) 336-7288. Please note that printed versions will only be available for the Executive Summary and Volumes I and II. The full Final EIS (Volumes I-IV) is available upon request only in an electronic version.

For general information on DOE's NEPA review process, please contact: Carol M. Borgstrom, Director, Office of NEPA Policy and Compliance, GC-20, U.S. Department of Energy, Washington, DC 20585, (202) 586-4600 or (800) 472-2756.

SUPPLEMENTARY INFORMATION: Otter Tail Corporation (dba Otter Tail Power Company), Central Minnesota Municipal Power Agency, Heartland Consumers Power District, Montana-Dakota Utilities Company, and Western Minnesota Municipal Power Agency (dba Missouri River Energy Services), collectively referred to as the Co-owners, propose to develop a new 600-MW (net) baseload coal-fired electric generating power plant and associated transmission lines and substation upgrades known as the Big Stone II Power Plant and Transmission Project. The proposed Project outlined in the Final EIS differs from that presented in the Big Stone II Power Plant and Transmission Project Draft Environmental Impact Statement (Draft EIS) issued in May 2006. Based on comments received on the Draft EIS and revised cost estimates for constructing the proposed make-up water storage pond presented in the Draft EIS, the Co-owners revised their proposed Project to include the use of groundwater as a source of make-up water, as well as other changes associated with groundwater use. These revisions were outlined in a Supplemental Draft EIS issued in October 2007.

The Final EIS is available in four volumes. Volume I contains the Final EIS, which integrates the information contained in the Draft EIS and the Supplemental Draft EIS, including revisions to the proposed Project, as well as other revisions and minor edits made in response to specific comments. A summary of all substantive comments received and Western's responses are included in Volume II of the Final EIS. Volume II also contains response papers providing additional information on mercury emissions, renewable and wind energy, and demand side management. All comments received on the Draft EIS and Supplemental Draft EIS were carefully reviewed and considered in preparing the Final EIS. Volume III contains the Appendices, and Volume IV includes a copy of all substantive comments received on the Draft EIS and the Supplemental Draft EIS.

Copies of the full Final EIS are available for public review at the offices and public libraries listed below:

Public Libraries

Ortonville Public Library, 412 Second Street Northwest, Ortonville, Minnesota.

Morris Public Library, 102 East 6th Street, Morris, Minnesota.

Granite Falls Public Library, 155 7th Avenue, Granite Falls, Minnesota.

Appleton Public Library, 322 W. Schlieman Avenue, Appleton, Minnesota.

Canby Public Library, 110 Oscar Avenue North, Canby, Minnesota.

Willmar Public Library, 410 5th Street Southwest, Willmar, Minnesota.

Kerkhoven Public Library, 208 10th Street North, Kerkhoven, Minnesota.

Benson Public Library, 200 13th Street South, Benson, Minnesota.

Grant County Public Library, 207 Park Avenue East, Milbank, South Dakota.

Watertown Regional Library, 611 Bruhn Avenue, NE., Watertown, South Dakota.

The Final EIS is also available at DOE Reading Rooms at the following addresses: U.S. Department of Energy, Forrestal Building, Reading Room 1E-190, 1000 Independence Avenue, SW., Washington, DC 20585; Western Area Power Administration, Corporate Services Office, 12155 West Alameda Parkway, Lakewood, Colorado 80228; and Western Area Power Administration, Upper Great Plains Customer Service Region, South Dakota Maintenance Office, 200 4th Street, SW., Huron, South Dakota 57350.

Decisions by Western and the USACE will be made no sooner than 30 days from the U.S. Environmental Protection Agency's published Notice of Availability for the Final EIS in the Federal Register. Western is considering whether to grant a request to interconnect the proposed Project with Western's transmission system at Morris and Granite Falls substations in Minnesota, an action which requires Western to complete modifications to these substations to support the interconnection. The USACE is considering whether to issue permits for Section 10 of the Rivers and Harbors Act and for Section 404 of the Clean Water Act for construction of the proposed Project within or across navigable waters and waters of the United States.

Dated: June 8, 2009.
Timothy J. Meeks,
Administrator.

[FR Doc. E9-15125 Filed 6-25-09; 8:45 am]

BILLING CODE 6450-01-P